DEPARTMENT OF AGRICULTURE

Animal and Plant Health Inspection Service

[Docket No. APHIS-2006-0022]

Availability of an Environmental Assessment and Finding of No Significant Impact for a Field Trial of Genetically Engineered Bahiagrass

AGENCY: Animal and Plant Health Inspection Service, USDA.

ACTION: Notice.

SUMMARY: We are advising the public that an environmental assessment has been prepared for a proposed field trial using two transgenic grass lines. The trial consists of Argentine bahiagrass plants that are genetically engineered to express resistance to the herbicide glufosinate and resistance to the antibiotic kanamycin. Each of 4 sets of 12 genetically engineered bahiagrass plants will be encircled with a ring of several untransformed cultivars of bahiagrass. The purpose of the field trial is to study the likelihood of hybrid formation as a result of pollen movement from the transgenic plants to the nontransgenic plants. Data gained from this field experiment also will be used to evaluate current confinement practices for this species of transgenic grass. After assessment of the application and review of the relevant scientific information, we have concluded that this field test will not present a risk of introducing or disseminating a plant pest. We have completed an environmental assessment and have concluded that this field test will not have a significant impact on the quality of the human environment. Based on its finding of no significant impact, the Animal and Plant Health Inspection Service has determined that an environmental impact statement need not be prepared for this field test.

DATES: Effective Date: May 23, 2006.

ADDRESSES: You may read the environmental assessment (EA) and the finding of no significant impact (FONSI) in our reading room. The reading room is located in room 1141 of the USDA South Building, 14th Street and Independence Avenue, SW., Washington, DC. Normal reading room hours are 8 a.m. to 4:30 p.m., Monday through Friday, except holidays. To be sure someone is there to help you, please call (202) 690-2817 before coming. The EA, FONSI, and decision notice are available on the Internet at http://www.aphis.usda.gov/brs/aphisdocs/05_29402r_ea.pdf.

FOR FURTHER INFORMATION CONTACT: Dr. Patricia Beetham, Biotechnology Regulatory Services, APHIS, Suite 6B81, 4700 River Road Unit 147, Riverdale, MD 20737-1236; (301) 734-0664. To obtain copies of the EA and FONSI, contact Ms. Ingrid Berlanger at (301) 734-4885; e-mail: ingrid.e.berlanger@aphis.usda.gov.

SUPPLEMENTARY INFORMATION: Under the regulations in 7 CFR part 340, “Introduction of Organisms and Products Altered or Produced Through Genetic Engineering Which Are Plant Pests or Which There Is Reason to Believe Are Plant Pests,” the Animal and Plant Health Inspection Service (APHIS) regulates, among other things, the introduction (importation, interstate movement, or release into the environment) of organisms and products altered or produced through genetic engineering that are plant pests or that there is reason to believe are plant pests. Such genetically engineered organisms and products are considered “regulated articles.” A permit must be obtained or a notification acknowledged before a regulated article may be introduced. The regulations set forth the permit application requirements and the notification procedures for the importation, interstate movement, or release into the environment of a regulated article.

On October 21, 2005, APHIS received a permit application (APHIS No. 05-294-02r) from the University of Florida in Marianna, FL, for a field trial using lines of transgenic Argentine bahiagrass. Permit application 05-294-02r describes two transgenic lines of Argentine bahiagrass, Paspalum notatum Flugge cv. Argentine:

Line ‘B9' has been genetically engineered to express the phosphinothricin acetyl transferase (bar) gene from Streptomyces hygroscopicus, which confers resistance to glufosinate herbicides. Expression of this gene is controlled by the polyubiquitin (ubi) promoter, ubi 5' flanking region and the ubi first intron sequences from Zea mays, and the 35S 3' region from Cauliflower Mosaic Virus (CaMV).

In addition to the gene sequences above, line ‘P’ has also been genetically engineered to express the neomycin phosphotransferase gene (nptII) from Escherichia coli, which confers resistance to the antibiotic kanamycin. Expression of this gene is controlled by the enhanced 35S promoter from CaMV, heat shock protein 70 (HSP70) intron from Zea mays, and the 35S 3' region from CaMV.

Constructs were inserted into the recipient organisms by microprojectile bombardment.

The subject transgenic grasses are considered regulated articles under the regulations in 7 CFR part 340 because they were created using donor sequences from plant pests. The purpose of this proposed field test is for research on transgenic bahiagrass plants, particularly to investigate the frequency of cross-hybridization between transgenic Argentine bahiagrass with different bahiagrass cultivars under field conditions. Additionally, the data gathered during this study will be used to assess the confined status of this field release and refine the confinement conditions necessary for future releases of this grass species.

On March 7, 2006, APHIS published a notice ¹ in the Federal Register (71 FR 11372-11373, Docket No. APHIS-2006-0022) announcing the availability of an environmental assessment (EA) for the proposed field trial. During the 30-day comment period, APHIS received no comments. Only typographical errors in the EA have been corrected since its draft form, and these do not change the substance of the EA.

¹ To view the notice and EA, go to http://www.regulations.gov, click on the “Advanced Search” tab, and select “Docket Search.” In the Docket ID field, enter APHIS-2006-0022, then click on “Submit.” Clicking on the Docket ID link in the search results page will produce a list of all documents in the docket.

Pursuant to its regulations (7 CFR part 340) promulgated under the Plant Protection Act, APHIS has determined that this field trial will not pose a risk of the introduction or dissemination of a plant pest. Additionally, based upon analysis described in the EA, APHIS has determined that the action proposed in Alternative C of the EA, to issue the permit with additional permit conditions, will not have a significant impact on the quality of the human environment. You may read the finding of no significant impact (FONSI) and decision notice on the Internet or in the APHIS reading room (see ADDRESSES above).

The EA and FONSI were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372). Copies of the EA and FONSI are available from the individual listed under FOR FURTHER INFORMATION CONTACT.

Authority: 7 U.S.C. 7701-7772 and 7781-7786; 31 U.S.C. 9701; 7 CFR 2.22, 2.80, and 371.3.

Done in Washington, DC, this 17th day of May 2006.
Kevin Shea,
Acting Administrator, Animal and Plant Health Inspection Service.

[FR Doc. E6-7820 Filed 5-22-06; 8:45 am]

BILLING CODE 3410-34-P